DEPARTMENT OF COMMERCE

National Oceanic and Atmospheric Administration

RIN 0648-XG027

Marine Mammals; File No. 21348

AGENCY: National Marine Fisheries Service (NMFS), National Oceanic and Atmospheric Administration (NOAA), Commerce.

ACTION: Notice; receipt of application.

SUMMARY: Notice is hereby given that the NMFS Northwest Fisheries Science Center (NWFSC), 2725 Montlake Boulevard East, Seattle, WA 98112-2097, (Responsible Party: M. Bradley Hanson, Ph.D.) has applied in due form for a permit to conduct research on marine mammals.

DATES: Written, telefaxed, or email comments must be received on or before April 16, 2018.

ADDRESSES: The application and related documents are available for review by selecting “Records Open for Public Comment” from the “Features” box on the Applications and Permits for Protected Species (APPS) home page, https://apps.nmfs.noaa.gov, and then selecting File No. 21348 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Shasta McClenahan or Amy Hapeman, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

The applicant proposes to take marine mammals in the North Pacific Ocean in the U.S. waters of Washington, Oregon, California, Alaska, and Hawaii, and international waters, to assess the biology and ecology of marine mammals in the study area, in particular endangered Southern Resident killer whales (Orcinus orca). Up to 47 species of marine mammals may be taken during research including the following ESA-listed cetaceans: Blue (Balaenoptera musculus), fin (B. physalus), humpback (Megaptera novaeangliae; Western North Pacific, Central America, and Mexico distinct population segments), North Pacific right (Eubalaena japonica), Main Hawaiian Islands insular DPS of false killer (Pseudorca crassidens), sei (B. borealis), sperm (Physeter macrocephalus), and Western North Pacific gray (Eschrichtius robustus) whales; and ESA-listed pinnipeds including Guadalupe fur seals (Arctocephalus townsendi), Hawaiian monk seals (Neomonachus schauinslandi), and the U.S. Western stock of Steller sea lions (Eumetopias jubatus). The applicant proposes to take marine mammals during vessel and aerial surveys, including unmanned aircraft systems for photo-identification, photogrammetry, thermal imaging, above and underwater photography and videography, behavioral observations, active acoustic playbacks, passive acoustic recordings, prey mapping with echosounders, remote ultrasound, biological sampling (exhaled air, feces, sloughed skin, predation samples, and skin and blubber biopsies), and tagging (suction-cup and dart/barb). Annual take numbers for aerial and vessel surveys include a maximum of 6,000 takes per species, and Level A harassment procedures include a maximum of 25 remote ultrasound, 50 biopsy samples, 30 suction-cup tags, and 25 dart/barb tags, per species. The duration of the requested permit is five years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: March 13, 2018.
Julia Harrison,
Chief, Permits and Conservation Division, Office of Protected Resources, National Marine Fisheries Service.

[FR Doc. 2018-05352 Filed 3-15-18; 8:45 am]

BILLING CODE 3510-22-P